DEPARTMENT OF HOMELAND SECURITY

U.S. Customs and Border Protection

19 CFR Part 145

[CBP Dec. 21-08]

RIN 1651-AB33

Mandatory Advance Electronic Information for International Mail Shipments; Correction

AGENCY: U.S. Customs and Border Protection, DHS.

ACTION: Interim final rule; correcting amendments.

SUMMARY: On March 15, 2021, U.S. Customs and Border Protection (CBP) published in the Federal Register an Interim Final Rule, which amends the CBP regulations to provide for mandatory advance electronic data (AED) for international mail shipments. That document inadvertently misnumbered the regulatory text listing the circumstances when AED is not required for international mail shipments and made a typographical error in the authority citation.

DATES: Effective July 22, 2021.

FOR FURTHER INFORMATION CONTACT: For policy questions related to mandatory AED for international mail shipments, contact Quintin Clarke, Cargo and Conveyance Security, Office of Field Operations, U.S. Customs and Border Protection, by telephone at (202) 344-2524, or email at quintin.g.clarke@cbp.dhs.gov. For legal questions, contact James V. DeBergh, Chief, Border Security Regulations Branch, Regulations and Rulings, Office of Trade, U.S. Customs and Border Protection, by telephone at 202-325-0098, or email at jamesvan.debergh@cbp.dhs.gov.

SUPPLEMENTARY INFORMATION: On March 15, 2021, CBP published in the Federal Register (86 FR 14245) an Interim Final Rule entitled Mandatory Advance Electronic Information for International Mail Shipments. As published, the Interim Final Rule inadvertently misnumbered the regulatory text found in 19 CFR 145.74(b)(2), which lists circumstances when AED is not required for international mail shipments. Specifically, section 145.74(b)(2) contains two subparagraphs numbered “(iii)”. CBP is correcting the numbering by re-numbering the current subparagraphs (iv) and (v) as subparagraphs (v) and (vi) respectively. CBP is further correcting the numbering by renumbering the second subparagraph (iii) as subparagraph (iv). Finally, CBP is correcting a typographical error in the Authority section.

List of Subjects in 19 CFR Part 145

Exports, Lotteries, Postal Service, Reporting and recordkeeping requirements.

For reasons stated in the preamble, 19 CFR part 145 is amended by making the following correcting amendments:

PART 145—MAIL IMPORTATIONS

1. The general authority citation for part 145 is revised to read as follows:

Authority: 19 U.S.C. 66, 1202 (General Note 3(i)), Harmonized Tariff Schedule of the United States, 1624.

* * * * *

Subpart G also issued under 19 U.S.C. 1415, 1436.

§ 145.74 [Amended]

2. Amend § 145.74 by redesignating the second paragraph (b)(2)(iii), and paragraphs (b)(2)(iv) and (v) as paragraphs (b)(2)(iv), (v), and (vi).

Alice A. Kipel,
Executive Director, Regulations and Rulings, Office of Trade, U.S. Customs and Border Protection.

[FR Doc. 2021-15460 Filed 7-21-21; 8:45 am]

BILLING CODE 9111-14-P